DEPARTMENT OF JUSTICE

Office of Justice Programs

[OJP (OJJDP) Docket No. 1452]

Meeting of the Federal Advisory Committee on Juvenile Justice

AGENCY: Office of Juvenile Justice and Delinquency Prevention, Office of Justice Programs, Justice.

ACTION: Notice of meeting.

SUMMARY: The Office of Juvenile Justice and Delinquency Prevention (OJJDP) is announcing the spring meeting of the Federal Advisory Committee on Juvenile Justice (FACJJ), which will be held in Washington, DC on May 7—9, 2006. The meeting times and location are noted below.

DATES: The schedule of events is as follows:

1. Sunday, May 7, 2006, 4 p.m. to 5:30 p.m.

2. Monday, May 8, 2006, 8:30 a.m. to 5 p.m.

3. Tuesday, May 9, 2006, 8:30 a.m. to 12 p.m.

ADDRESSES: All open meeting sessions will take place at the Office of Justice Programs, 810 Seventh Street, NW., Washington, DC 20531.

FOR FURTHER INFORMATION CONTACT: Robin Delany-Shabazz, Designated Federal Official, OJJDP, Robin.Delany-Shabazz@usdoj.gov, or 202-307-9963. [Note: This is not a toll-free number.]

SUPPLEMENTARY INFORMATION: The Federal Advisory Committee on Juvenile Justice (FACJJ), established pursuant to Section 3(2)A of the Federal Advisory Committee Act (5 U.S.C. App.2) will meet to carry out its advisory functions under Section 223(f)(2)(C-E) of the Juvenile Justice and Delinquency Prevention Act of 2002. The FACJJ is composed of one representative from each state and territory. FACJJ duties include: reviewing Federal policies regarding juvenile justice and delinquency prevention; advising the OJJDP Administrator with respect to particular functions and aspects of OJJDP; and advising the President and Congress with regard to State perspectives on the operation of OJJDP and Federal legislation pertaining to juvenile justice and delinquency prevention. More information, including a member list, may be found at www.ojjdp.ncjrs.org/facjj/index.html.

Meeting Agenda

1. Sunday, May 7, 2006

• 4 p.m.-5:30 p.m. New Member Orientation. (Closed Session).

2. Monday, May 8, 2006

• 8:30 a.m.-9 a.m. Opening and Welcome by the Administrator of OJJDP and Call to Order by the Chair of the FACJJ (Open Sessions).

• 9 a.m.-12 p.m. and 1:45 p.m.-5 p.m. Review, Discussion and Deliberation of the 2006 Draft Reports to the President, Congress, and the Administrator of OJJDP (Open Sessions).

• 12 p.m.-1:45 p.m. Subcommittee Meetings (Closed Sessions).

3. Tuesday, May 9, 2006

• 8:30 a.m.-12 p.m. Presentations on Mental Health and Juvenile Justice and the Implications of Adolescent Brain Development Research on Juvenile Justice Policy and Practice (Open Sessions).

For security purposes, members of the public who wish to attend open sessions of the meeting should register by sending an e-mail with their name, affiliation, address, phone number, and a list of sessions they plan to attend to facjj@jjrc.org. If e-mail is not available, fax this information to 301-519-5600, attention: Daryel Dunston. Because space is limited, notification of intent to attend should be sent by April 25, 2006. Note: Photo identification will be required for admission to the meeting. Additional identification documents may be required. Space is limited.

Written Comments

Interested parties may submit written comments by Tuesday, April 25, 2006, to Robin Delany-Shabazz, Designated Federal Official for the Federal Advisory Committee on Juvenile Justice, OJJDP, at Robin.Delany-Shabazz@usdoj.gov, or by fax to 202-354-4063. [Note: This is not a toll-free number.] No oral presentations will be permitted at the meeting. However, written questions and comments from members of the public attending the meeting may be invited.

Marilyn Roberts,
Deputy Administrator Office of Juvenile Justice and Delinquency Prevention.

[FR Doc. E6-4891 Filed 4-4-06; 8:45 am]

BILLING CODE 4410-18-P